DEPARTMENT OF TRANSPORTATION

Federal Motor Carrier Safety Administration

[Docket No. FMCSA-2016-0116]

Household Goods (HHG) Consumer Protection Working Group Third Public Meeting

AGENCY: Federal Motor Carrier Safety Administration (FMCSA), DOT.

ACTION: Notice.

SUMMARY: Congress mandated the establishment of the HHG Working Group in the Fixing America's Surface Transportation (FAST) Act. The group is charged with providing recommendations on how to better educate and protect HHG moving customers (consumers) during interstate HHG moves.

DATES: The third HHG Working Group meeting will be held on June 27 and 28, 2017, from 9:00 a.m. to 4:30 p.m. and June 29, 2017, from 9:00 a.m. to 12:00 p.m. at the USDOT Headquarters, 1200 New Jersey Avenue SE., Washington, DC, 20590. Members of the public planning to attend should email Kenneth Rodgers at kenneth.rodgers@dot.gov by June 13, 2017. Members of the Working Group and the public should arrive at 8:30 a.m. to facilitate clearance through DOT security. Copies of the agenda will be made available at https://www.fmcsa.dot.gov/fastact/household-goods-consumer-protection-working-group.

FOR FURTHER INFORMATION CONTACT: Kenneth Rodgers, Chief, Commercial Enforcement and Investigations Division, Federal Motor Carrier Safety Administration, U.S. Department of Transportation, 1200 New Jersey Avenue SE., Washington, DC.

Services for Individuals With Disabilities: For information on facilities or services for individuals with disabilities or to request special assistance at the meeting, contact Monique Riddick at 202-366-8045 or by email at Monique.Riddick@dot.gov, by June 13, 2017.

SUPPLEMENTARY INFORMATION:

FAST Act

Section 5503 of the FAST Act (Pub. L. 114-94) (December 4, 2015) requires the HHG Working Group to provide recommendations to the Secretary of Transportation, through the FMCSA Administrator. The Working Group will operate in accordance with the Federal Advisory Committee Act (FACA). 5 U.S.C. App. 2.

As required by Section 5503 of the FAST Act, the Working Group will make recommendations in three areas relating to “how to best convey to consumers relevant information with respect to the Federal laws concerning the interstate transportation of household goods by motor carrier.” Those areas are:

1. How to condense the FMCSA “Ready to Move?” tips published in April 2006 (FMCSA-ESA-03-005) into a more consumer friendly format;

2. How best to use state-of-the-art education techniques and technologies (including how to optimize use of the Internet as an educational tool); and

3. How to reduce and simplify the paperwork required of motor carriers and shippers in interstate transportation.

Section 5503 mandates that the Secretary of Transportation appoint a Working Group that is comprised of (i) individuals with expertise in consumer affairs; (ii) educators with expertise in how people learn most effectively; and (iii) representatives of the FMCSA regulated interstate HHG moving industry.

On April 20, 2016, FMCSA solicited applications and nominations of interested persons to serve on the HHG Working Group. Applications and nominations were due on or before May 20, 2016 [81 FR 23354]. The HHG Working Group met on January 4-5, 2017, and May 2-4, 2017.

The Working Group will terminate one year after the date its recommendations are submitted to the Secretary of Transportation.

Meeting Information

Meetings will be open to the general public, except as provided under FACA. Notice of each meeting will be published in the Federal Register at least 15 calendar days prior to the date of the meeting.

For the June 27-29, 2017, meeting, oral comments from the public will be heard from 10:00 a.m. to 11:00 a.m. on June 29, 2017. Should all public comments be exhausted prior to the end of the specified oral comment period, the comment period will close.

Issued on: May 4, 2017.
William A. Quade,
Associate Administrator for Enforcement.

[FR Doc. 2017-09454 Filed 5-9-17; 8:45 am]

BILLING CODE 4910-EX-P